DEPARTMENT OF EDUCATION

DEPARTMENT OF HEALTH AND HUMAN SERVICES

DEPARTMENT OF LABOR

[Docket ID: ED-2014-OVAE-0044]

Request for Information on Adoption of Career Pathways Approaches for the Delivery of Education, Training, Employment, and Human Services

AGENCY: Office of Career, Technical, and Adult Education, Department of Education; Administration for Children and Families, Department of Health and Human Services; Employment and Training Administration, Department of Labor.

ACTION: Request for Information.

SUMMARY: Through this Request for Information (RFI), the Departments of Education (ED), Health and Human Services (HHS), and Labor (DOL) (the Departments) seek to further support the development of high-quality career pathways systems by jointly soliciting information and recommendations from a broad array of stakeholders in the public and private sectors, as well as in State, regional, tribal, and local areas.

The Departments will analyze the career pathways information collected from the RFI to: (1) Inform and coordinate policy development, strategic investments, and technical assistance activities; and (2) improve coordination of Federal policy development with investments at the State, tribal and local levels.

DATES: Responses must be received by June 9, 2014.

ADDRESSES: Submit your comments through the Federal eRulemaking Portal or via U.S. mail, commercial delivery, or hand delivery. We will not accept comments by fax or by email or those submitted after the comment period. To ensure that we do not receive duplicate copies, please submit your comments only once. In addition, please include the Docket ID and the term “Career Pathways RFI” at the top of your comments.

If you are submitting comments electronically, we strongly encourage you to submit any comments or attachments in Microsoft Word format. If you must submit a comment in Portable Document Format (PDF), we strongly encourage you to convert the PDF to print-to-PDF format or to use some other commonly used searchable text format.

Please do not submit the PDF in a scanned or read-only format. Using a print-to-PDF format allows ED to electronically search and copy certain portions of your submissions.

Federal eRulemaking Portal: To submit your comments electronically, go to www.regulations.gov. Information on using Regulations.gov, including instructions for accessing agency documents, submitting comments, and viewing the docket, is available on the site under “Are you new to the site?”

U.S. Mail, Commercial Delivery, or Hand Delivery: If you mail or deliver your comments, address them to Alicia Bolton, U.S. Department of Education, 550 12th Street SW., Room 11108, Potomac Center Plaza (PCP), Washington, DC 20202. Please note that mail sent through the U.S. Mail is subject to x-ray or heat treatment, which typically results in delays and may damage paper products.

Privacy Note: ED's policy for comments received from members of the public (including comments submitted by mail, commercial delivery, or hand delivery) is to make these submissions available for public viewing in their entirety on the Federal eRulemaking Portal at www.regulations.gov. Therefore, commenters should be careful to include in their comments only information that they wish to make publicly available on the Internet.

FOR FURTHER INFORMATION CONTACT: Alicia Bolton, U.S. Department of Education, 550 12th Street SW., Room 11108, PCP, Washington, DC 20202. Telephone: (202) 245-6868 or by email at: Alicia.Bolton@ed.gov. Stanley Koutstaal, U.S. Department of Health and Human Services, 370 L'Enfant Promenade, SW., Room 5C0059, Washington, DC 20447. Telephone: (202) 401-5457 or by email at: Stanley.koutstaal@acf.hhs.gov. Andrala Walker, U.S. Department of Labor Employment and Training Administration Office of Workforce Investment 200 Constitution Avenue NW., Room S-4203, Washington, DC 20210. Telephone: (202) 693-3948 or by email at: Walker.andrala@dol.gov.

If you use a telecommunications device for the deaf (TDD) or a text telephone (TTY), call the Federal Relay Service (FRS), toll free, at 1-800-877-8339.

SUPPLEMENTARY INFORMATION:

Background

Ensuring robust economic growth, a thriving middle class, and broadly shared prosperity will require a significant expansion of the skills and knowledge of American workers over the next few decades. However, even as millions more Americans seek the postsecondary education and training necessary to secure good jobs that pay family-sustaining wages,¹ employers continue to report difficulty finding the skilled workers they need.² In a time of intense global economic competition, and increasing income inequality at home, the United States must find innovative and cost-effective ways to help youths and adults gain the educational and industry-recognized credentials they need to participate fully in our economy and our society. Education, workforce, and human service agencies are critical partners in the development, implementation, and funding of systems that build the knowledge and skills our economy needs to thrive. Career pathways systems represent a promising strategy for meeting the skills challenge by offering distinct but complementary workforce, education, and support services that are aligned with the needs of business and industry.

¹ In its 2013 publication, Recovery: Job Growth and Education Requirements through 2020, The Georgetown Center for Education and the Workforce reports that 65% of the job openings by 2020 will require some form of postsecondary education beyond high school and that individuals possessing only a high school diploma will have fewer employment options. See cew.georgetown.edu/recovery2020/.

² In a 2012 survey of a representative sample of its members, the Society for Human Resources Management found that 66 percent of respondents who were currently hiring full-time staff indicated that they were having a difficult time recruiting for specific job openings. See www.shrm.org/Research/SurveyFindings/Articles/Pages/SHRM-Recession-Recruiting-Skill-Gaps-Technology.aspx.

In April 2012, the Departments issued a joint letter on career pathways ³ (joint letter) encouraging State, tribal, and local policymakers to adopt career pathways approaches to promote alignment in the delivery of employment, training, and education services. For purposes of this RFI, and in the joint letter, the term “career pathways” generally refers to a series of connected education and training strategies and support services that enable individuals to secure industry-recognized credentials,⁴ obtain employment within an occupational area, and advance to higher levels of future education and employment in that area. The joint letter also discusses the Departments' views on the essential components of a career pathways system. While the Departments' understanding will be further strengthened by research and experience, what we have learned to date from our investments in this area, in addition to States' efforts in career pathways, leads us to believe that essential components of a career pathways system should include the following:

³ See the April 2012 Joint Letter on Career Pathways at: www2.ed.gov/about/offices/list/ovae/ten-attachment.pdf.

⁴ See U.S. Department of Labor Training and Employment Guidance Letter (TEGL) No. 15-10, Increasing Credential, Degree, and Certificate Attainment by Participants of the Public Workforce System. While the Joint Letter on Career Pathways references “certification,” the term “credential,” as defined in the TEGL, is an “umbrella term which encompasses postsecondary degrees, diplomas, licenses, certificates, and certifications”—all of which career pathways seek to prepare individuals to attain.

• Alignment of systems: secondary, postsecondary and workforce development;

• Rigorous, sequential, connected, and efficient coursework that connects basic education and skills training and integrates education and training;

• Multiple entry and exit points;

• Comprehensive support services, such as career counseling, childcare, and transportation;

• Financial supports or flexibility to accommodate the demands of the labor market in order to allow individuals to meet their ongoing financial needs and obligations;

• Active engagement of business in targeted industry sectors that aligns with the skill needs of industries important to the local, regional, and/or State economies;

• Appropriate curriculum and instructional strategies that make work a central context for learning and work readiness skills;

• Credit for prior learning and the adoption of other strategies that accelerate the educational and career advancement of the participant;

• Organized services to meet the particular needs of adults, including accommodating work schedules with flexible and non-semester-based scheduling, alternative class times and locations, and the innovative use of technology;

• A focus on secondary and postsecondary industry-recognized credentials, sector-specific employment, and advancement over time in education and employment within that sector; and

• A collaborative partnership among workforce, education, human service agencies, business and other community stakeholders to manage the system.

One of the hallmarks of a career pathways system is its potential to provide an effective strategy for integrating educational instruction, workforce development, and human services and linking them to labor market trends and employer needs. The Departments believe that the more career pathways systems are aligned at the State, local, regional, and tribal levels, the easier it is to create a level of integration necessary to develop career pathway programs and ensure an individual's success.

The joint letter was the Departments' first step to formally adopt a common definition and shared vision for career pathways systems, with the expectation that a common language would facilitate the forging of cross-agency partnerships and systems development. The joint letter was also the first time each of the Departments overseeing the major Federal funding streams for employment, training, education, and support services formally recognized their shared support for career pathways approaches. The impetus for the joint letter came from the awareness among Federal leaders of a growing convergence of strategies for promoting skills acquisition and labor market successes that fit loosely under the rubric of career pathways.

While there are differences in emphasis and terminology, the Departments are using discretionary and formula funding ⁵ to encourage their State, tribal, and local partners to build cross-agency partnerships and to integrate the delivery of employment, education, and support services. The convergence of strategies is evidence of recent Federal investments aimed at building skills and employability. Since the publication of the joint letter, leaders and staff from the Departments have continued to explore opportunities to improve the alignment of their programs at the State, tribal, or local levels through the creation of an Interagency Working Group (IWG). During fiscal year 2012, the IWG jointly delivered technical assistance to a wide variety of stakeholders, including discretionary and formula grantees, Federal staff, and State, tribal, and local policymakers. In addition, each of the Departments invested in the creation and dissemination of key resources and technical assistance tools to help States, regional and local areas, and tribal communities adopt career pathways systems. For example, DOL developed a comprehensive set of technical assistance tools, including the Career Pathways Framework and Toolkit and Competency Model Clearinghouse, which can be found at its Community of Practice at: learnwork.workforce3one.org.

⁵ The primary funding streams that are leveraged as part of a career pathways systems include, but are not limited to: Title I of the Workforce Investment Act of 1998 (WIA), the Wagner Peyser Act and the Trade Act, administered by DOL; Title II of the WIA (also known as the Adult Education and Family Literacy Act of 1998), the Carl D. Perkins Career and Technical Education Act of 2006 (Perkins), and the Higher Education Act of 1965, as amended, administered by ED; and the Temporary Assistance for Needy Families programs of the Personal Responsibility and Work Opportunity Act administered by HHS. Competitive grants and contracts managed by each Department also play an important role in many career pathways initiatives, as well as programs and funding systems administered by other Federal agencies, including the Departments of Agriculture, Energy, and Transportation.

ED implemented a variety of national activities, including “Designing Instruction for Career Pathways” ⁶ and “Advancing Career and Technical Education in State and Local Career Pathways,” ⁷ both of which intend to strengthen connections between adult education, career and technical education, the public workforce system, human service agencies, and businesses and other employers.

⁶ See www2.ed.gov/about/offices/list/ovae/pi/AdultEd/factsh/difcp.pdf.

⁷ See cte.ed.gov/nationalinitiatives/advancing_cte.cfm.

Each of the Departments has also made investments in research on the effectiveness of career pathways programs, including the HHS ten-year Innovative Strategies for Increasing Self-Sufficiency (ISIS) ⁸ assignment evaluation of a number of different career pathways programs around the country.

⁸ See www.acf.hhs.gov/programs/opre/research/project/innovative-strategies-for-increasing-self-sufficiency.

Career pathways systems have demonstrated promise for meeting the distinct but complementary goals of a number of Federal agencies, including the DOL goals for increasing credential attainment rates and helping individuals secure good jobs at family-sustainable wages, ED's goal of increasing college success and career-readiness, and HHS's goal of supporting family self-sufficiency and stability. Thus, this RFI builds on the joint letter and on related efforts across the Federal government to better coordinate investments in human capital and economic development while reducing waste and duplication.

A subcommittee of the IWG, comprised of the Departments' leaders and staff, developed the RFI questions and will jointly analyze the responses. This RFI marks the first time that the Departments are jointly collecting and analyzing information, a process that we believe will yield important insights on: (1) The challenges to aligning diverse funding streams, programs, and stakeholders; and (2) efforts to serve low-income youth and adults, low-skilled youth and adults, out-of-school youth, individuals with disabilities, Temporary Assistance to Needy Families program ⁹ (TANF) recipients, tribal communities, English learners, immigrants, rural populations, veterans, currently and formerly incarcerated individuals, dislocated workers, and trade-affected workers. We expect the analysis period to deepen our shared vision and understanding of career pathways systems. In addition, the joint analysis will generate essential information that can inform policy development and the next generation of investments and technical assistance by providing us with greater clarity on the facilitators and obstacles to career pathways systems development.

⁹ See www.ssa.gov/OP_Home/ssact/title04/0400.htm.

Instructions: Who Should Respond

We invite practitioners, policy makers, funders, business and industry associations, and researchers to provide information, including those who are, or those who work in:

• Employers, Businesses, and/or Associations of Employers, such as local and regional employers and businesses, trade/industry associations, and others.

• Education, such as State and local agencies; adult education, corrections/re-entry, elementary/secondary special education, and career and technical education programs; community and technical colleges; institutions of higher education; tribal, community, and faith-based organizations; youth service providers; and student organizations.

• Workforce Development, such as State, regional, tribal and local agencies; youth service providers; State and local workforce investment boards; training providers; community- and faith-based organizations; workforce intermediaries; sector-based training partnerships; American Job Centers; Registered Apprenticeship programs; student organizations (career-focused); and others in the workforce development field.

• Human Services, such as State, tribal, and local TANF agencies; and community- and faith-based organizations.

• Economic Development, such as State and local agencies, regional skills partnerships, planning and development organizations, area development districts, councils of governments, economic development associations, and economic development corporations.

• Others, such as research organizations, philanthropic funders, advocacy organizations, think tanks, and associations.

Guidance for Submitting Documents

We strongly recommend that you limit the narrative in your electronic word document, or hard copy submission to the equivalent of no more than 10 pages using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

• If submitting electronically, please do not upload attachments, but you may include hyperlinks to additional materials you would like reviewed.

On page 1 of your submission, please indicate your name, the name of your organization (if applicable), and your contact information (including phone number, postal address, and email address). While not required, it would assist us in reviewing your information if you also included the type of organization you represent (public, private, not-for-profit, or philanthropic), the field(s) in which you work (education, workforce development, human services, economic development, or other), and the level at which you operate (national, State, regional, local or tribal).

Request for Information

Through this RFI, the Departments are soliciting ideas and information from a broad array of stakeholders on improving outcomes for youth and adults through the use of career pathways approaches, including how to facilitate comprehensive, multi-system approaches and how to use existing resources in more coordinated and comprehensive ways. Responses to this RFI will inform the work of each Department as they design investments, policies, and legislative strategies to improve outcomes for youth and adults. This RFI is for information and planning purposes only and should not be construed as a solicitation or as an obligation on the part of the participating Federal agencies.

We ask respondents to address the following questions, where possible, in the context of the discussion in this document. You do not need to address every question and you should focus on those where you have relevant expertise. You may also provide relevant information that is not directly responsive to a particular topic but may nevertheless be helpful. Please clearly indicate which question(s) you are addressing in your response.

The Questions

1. Using the list of key components of career pathways discussed in the Background section of this RFI as a general guideline, please describe any Federal, State, or local policies, frameworks, or initiatives of which you are aware that have been used to support the development of career pathways systems.¹⁰

¹⁰ See the Background section of this notice for a discussion of the term “career pathways.”

2. What factors, in your opinion, have facilitated the implementation of career pathways systems at the State or local level (e.g., the use of key resources or technical assistance tools)? What factors have made career pathways systems difficult to implement and/or replicate on a large scale?

3. What Federal, State, or local governmental and non-governmental funding streams are you aware of that have been used to support career pathways initiatives? If applicable, to what extent is your State or local area aligning or braiding ¹¹ funding from across different funding streams to support career pathways? Please describe facilitators and/or challenges to aligning and braiding funding. If you are not aligning and/or braiding funding, please describe any specific barriers.

¹¹ Braiding funds refers to using two or more sources of funds for the same or similar purpose in such a way that the funds can be accounted for separately.

4. For your career pathways system, please describe the roles and responsibilities of each of the following partners with whom you work (please answer only for those that are applicable). What factors facilitate and/or create obstacles to successful partnership efforts?

a. Businesses/employers and industry associations

b. Education providers (e.g. K-12 education, special education, institutions of higher education including but not limited to community and technical colleges, and/or other training providers)

c. Workforce development agencies (e.g. Workforce Investment Boards and American Job Centers)

d. Community-based organizations and human service providers that address barriers to employment (e.g. cash assistance/TANF, child care, transportation, housing, food assistance/SNAP ¹², etc.)

¹² Supplemental Nutrition Assistance Program.

e. Philanthropic organizations/intermediaries

f. State, regional, local, and/or tribal government agencies

g. Other (please describe)

5. Is your career pathways system connected to a State, regional, local, or tribal economic development strategy? If so, how?

6. How do you ensure that your career pathways system is staying current with labor market trends, particularly current demand, to respond to the need for particular skills and credentials in emerging industry sectors?

7. How can career pathways systems be made accessible to diverse populations and responsive to their needs beyond education and training (e.g., support services such as childcare, transportation, housing, etc.)? We are particularly, but not exclusively, interested in learning about efforts to serve low-income youth and adults, low-skilled youth and adults, out-of-school youth, individuals with disabilities, TANF recipients, tribal communities, English language learners, immigrants, rural populations, veterans, currently and formerly incarcerated individuals, dislocated workers, and trade-affected workers.

8. Which populations would you like to serve, but are unable to serve or face special challenges in serving? What are the barriers to serving these particular populations and what are the strategies, recommendations, or lessons learned that can be used to achieve positive outcomes in serving these populations?

9. What are the challenges and/or facilitators to building and/or offering stackable and portable, industry-recognized credentials? ¹³ How can these industry-recognized credentials be incorporated into and/or aligned in a successful career pathways system?

¹³ Within the context of workforce development generally, the term credential refers to an attestation of qualification or competence issued to an individual by a third party (such as an educational institution or an industry or occupational certifying organization) with the relevant authority or assumed competence to issue such a credential.

Examples of credentials include: (1) Educational Diplomas and Certificates (typically for one academic year or less of study); (2) Educational Degrees, such as an associate's (2-year) or bachelor's (4-year) degree; (3) Registered Apprenticeship Certificate; (4) Occupational Licenses (typically, but not always, awarded by State government agencies); and (5) Industry-recognized or professional association certifications; also known as personnel certifications; and Other certificates of skills completion. For more details, see U.S. Department of Labor Training and Employment Guidance Letter (TEGL) No. 15-10, Increasing Credential, Degree, and Certificate Attainment by Participants of the Public Workforce System, available at: wdr.doleta.gov/directives/attach/TEGL15-10.pdf.

10. How are participants' outcomes measured, and to what extent are the data used to monitor and improve the strength of your career pathways system? Please indicate if there are any other data points or ongoing evaluation efforts used to improve the strength of your career pathways system.

11. How do performance measures associated with specific Federal funding statutes/streams (i.e., WIA, Perkins, TANF, etc.) facilitate or impede the tracking of participant outcomes?

12. Do you have any suggestions for how Federal, State, regional, tribal, and local governments could support the development of high-quality career pathways systems and/or address gaps in current efforts? If so, please describe the specific changes that would be necessary in each of the following categories (please answer only for those that are applicable):

a. Legislation, statutes and/or regulations; for example,

(i) Administrative flexibility (i.e., waivers on use of funds or program eligibility)

(ii) Expanded eligibility for financial aid and/or other support services

(iii) Changes to performance measurement and program accountability rules

b. Technical assistance activities and/or non-regulatory guidance;

c. Funding strategies;

d. Research and evaluation activities;

e. Other proposed changes.

13. For business and industry respondents only,¹⁴ please indicate what successes and/or challenges you have faced at local, State, regional, and/or national levels when developing a pipeline of workers. What strategies would you suggest to sustain the successes and/or mitigate the challenges?

¹⁴ If you are not a business and industry respondent, but you have access to one or more business and industry entities that could respond to this question, please feel free to include their response to this question in your submission.

Rights to Materials Submitted

By submitting material (e.g., descriptions of use or barriers to use of career pathways approaches) in response to this RFI, the respondent is agreeing to grant the Departments a worldwide, royalty-free, perpetual, irrevocable, non-exclusive license to use the material and to make it publicly available. Further, the respondent agrees that it owns, has a valid license, or is otherwise authorized to provide the material to the Department. The Departments will not provide any compensation for material submitted in response to this RFI.

Request for Metadata Tags

To make the best use of the information submitted in response to this RFI and to make it easier for interested parties to search the responses, the Departments will include specific words or phrases—also known as “keywords” or metadata “tags”—with the material submitted. Therefore, you are strongly encouraged to use keywords or tags to identify components of the strategies described in your responses. The keywords or tags should be linked to, and accurately reflect substantial components of, the strategies, practices, programs, or other activities described in your submission. To simplify searches of the responses, Appendix A of this RFI provides a list of standard keywords and tags. You are encouraged to select from among these standard keywords and tags to the greatest extent possible. In the event that none of the words or phrases in Appendix A is sufficiently precise for the strategy that is the subject of your response, you may substitute other keywords or tags. Please do not provide more than eight keywords or tags for each strategy, and please limit each tag to no more than three words per tag and 28 characters per word.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of the Departments published in the Federal Register, in text or Adobe Portable Document Format (PDF). To use PDF you must have Adobe Acrobat Reader, which is available free at the site.

You may also access documents of the Departments published in the Federal Register by using the article search feature at: www.federalregister.gov. Specifically, through the advanced search feature at this site, you can limit your search to documents published by the Departments.

Authority: 20 U.S.C. 3402(2) and (4) and 20 U.S.C. 2324(c)(1); 42 U.S.C. 1310; and 29 U.S.C. 2811.

Dated: April 18, 2014.
John Uvin,
Deputy Assistant Secretary for Policy and Strategic Initiatives, Delegated Authority to Perform the Duties and Functions of the Assistant Secretary for Career, Technical, and Adult Education.
Eric Seleznow,
Acting Assistant Secretary for Employment and Training, Administration.
Mark Greenberg,
Acting Assistant Secretary for Administration for Children and Families.

Appendix

Standard Keywords and Tags Population Descriptors

• At-Risk Youth

• Disadvantaged Youth

• Dropouts

• Foster Youth

• Homeless Youth

• In-school Youth

• Incarcerated individuals

• Individuals with Disabilities

• Out-of-School Youth

• Runaway Youth

• Vulnerable

• Workforce Investment Act (WIA) Youth

• Youth in Adult Education

• Young Adults

• Adults

• Basic-skills Deficient

• Dislocated Workers

• Immigrants

• Limited English Proficient (LEP)/English Language Learner (ELL)/English as a Second Language (ESL)

• Long-term Unemployed

• Low-skilled Adults

• Low-skilled Youth

• Low-income Adults

• Low-Income Youth

• Workforce Investment Act (WIA) Adult

• Temporary Assistance to Needy Families (TANF) Recipients

• Trade-Adjusted (TA) Workers

• Trade-affected Workers

• Tribal Communities

• Unemployed

• Veterans

Service Descriptors

• Accommodations

• Adult Basic Education (ABE)

• Adult Education (AE)

• Apprenticeship

• Basic Skills

• Career and Technical Education (CTE)

• Career Pathways

• Immigrant Integration

• Reentry

• Special Education

• Workforce Development

• Workforce Investment Act (WIA) Youth Services

• Wrap Around Services

• Youth and Basic Skills

• Youth Development

• Youth Service

• Youth Workforce Development

Strategy and Practice Descriptors

• Alignment

• Articulation

• Career Ladders

• Career Lattices

• Career Pathways

• Certificates

• Certifications

• Collaboration

• Competency-based Education

• Competency Models

• Credentials

• Dual Enrollment

• Employer Engagement

• Holistic

• Innovation

• Integrated

• Integrated Education and Training

• Outreach

• Partnerships

• Pay For Success Funding

• Performance-Based Funding

• Professional Development

• Sector Strategies Shared

[FR Doc. 2014-09274 Filed 4-22-14; 8:45 am]

BILLING CODE 4000-01-P